DEPARTMENT OF DEFENSE

Office of the Secretary

[Docket ID: DOD-2024-OS-0152]

Submission for OMB Review; Comment Request; Correction

AGENCY: Office of the Under Secretary of Defense for Personnel and Readiness (OUSD (P&R)), Department of Defense (DoD).

ACTION: 30-Day information collection notice; correction.

SUMMARY: On June 18, 2025, the DoD published a notice with the wrong Title; Associated Form; and OMB Number text in the SUPPLEMENTARY INFORMATION section. This notice corrects the error. Everything else in the original notice remains the same.

DATES: This correction is effective June 25, 2025.

FOR FURTHER INFORMATION CONTACT: Aaron Siegel, 571-372-0488.

SUPPLEMENTARY INFORMATION: On June 18, 2025, the DoD published 2025-11195 at 90 FR 26038. Subsequent to publication of the notice in the Federal Register, DoD realized the Title; Associated Form; and OMB Number text in the SUPPLEMENTARY INFORMATION section was not correct.

On page 26038, in the first column, in the SUPPLEMENTARY INFORMATION section, the Title; Associated Form; and OMB Number text is corrected to read as follows:

Title; Associated Form; and OMB Number: Department of Defense (DoD) Voluntary Education Partnership Memorandum of Understanding (MOU) Institutional Compliance Program (ICP); OMB Control Number 0704-VEPP.

Dated: June 23, 2025.
Aaron T. Siegel,
Alternate OSD Federal Register Liaison Officer, Department of Defense.

[FR Doc. 2025-11709 Filed 6-24-25; 8:45 am]

BILLING CODE 6001-FR-P